DEPARTMENT OF TRANSPORTATION

National Highway Traffic Safety Administration

[NHTSA Docket No. NHTSA-2007-28680]

Meeting on the Use of Alcohol Ignition Interlocks for Reducing Impaired Driving Recidivism

AGENCY: National Highway Traffic Safety Administration (NHTSA), DOT.

ACTION: Notice of Ignition Interlock Meeting.

SUMMARY: This notice announces a meeting regarding the use of ignition interlocks for convicted impaired driving offenders. The purpose of this meeting is to provide an opportunity for judges, court personnel, treatment professionals and others to discuss issues relating to the use of ignition interlocks by impaired driving offenders, including but not limited to: (1) Technological issues; (2) legal issues; (3) current barriers to the use of ignition interlocks and (4) issues relating to training and education.

DATES: The meeting is scheduled for August 22, 2007, from 8:30 a.m. until 4:30 p.m.

ADDRESSES: The meeting will be held at the Grand Hyatt Hotel at 1000 H Street, NW., in Washington, DC 20001.

FOR FURTHER INFORMATION CONTACT: Dr. Jeff Michael, Director of the Office of Impaired Driving and Occupant Protection, 202-366-4299 (jeff.michael@dot.gov), NHTSA, NTI-110, 1200 New Jersey Avenue, SE., Washington, DC 20590.

SUPPLEMENTARY INFORMATION:

Background

Alcohol ignition interlock devices have been used for over 20 years by criminal justice systems for some individuals convicted of driving while impaired by alcohol (DWI). Nearly every State and the District of Columbia allow or require alcohol interlocks. Ignition interlocks have been shown to reduce DWI recidivism by about 65 percent when installed on offenders' vehicles.

Despite their benefits, a number of practical barriers to utilization of ignition interlocks have been identified, and only a small proportion of offenders who are eligible for interlocks are now using the devices. Law enforcement officials make approximately 1.4 million impaired driving arrests each year and while the number of convictions is somewhat less and the number of repeat offenders yet lower, the approximately 100,000 ignition interlocks that are in use at any one time are a small fraction of the number that could be in service.

Factors that limit the use of ignition interlocks include:

• Absence of statutory language authorizing (or requiring) use of ignition interlocks;

• Lack of knowledge and the latest information about ignition interlocks and interlock programs by judges and other court personnel;

• Concerns about the reliability and integrity of ignition interlocks;

• Concerns about cost, particularly among offenders without financial means;

• Concerns about the lack of availability of ignition interlocks and service providers in certain parts of the country, especially rural areas.

NHTSA is interested in examining the benefits of expanded ignition interlock use as a means to further reduce deaths and injuries from impaired driving. In the 1980's and early 1990's, there was a steep decline in the number of alcohol related traffic fatalities. However in the past decade, there have been only very modest improvements. The Agency is working closely with State highway safety offices and other traffic safety and professional organizations to implement several priority strategies for reducing impaired driving including high visibility law enforcement and improvements to prosecution and court processes. NHTSA believes that expanded use of ignition interlocks is a promising complement to these program strategies.

NHTSA conducts research and evaluation to support utilization of ignition interlocks as part of a comprehensive impaired driving program. The Agency is also participating in the Campaign to Eliminate Drunk Driving, an initiative launched in November 2006 with support from a broad range of national organizations and Federal agencies, including Mothers Against Drunk Driving, the International Association of Chiefs of Police, the Governors Highway Safety Association, the Insurance Institute for Highway Safety, the Alliance of Automobile Manufacturers, The Century Council, and others. The Campaign focuses attention on several key strategies including ignition interlocks:

○ High visibility enforcement, including use of sobriety checkpoints.

○ Increased use of ignition interlocks for impaired driving offenders.

○ Establishment of a Blue Ribbon Panel to research and develop advanced impairment detection technology.

○ Grassroots support for these efforts.

This meeting will build on current and past efforts by reviewing progress, identifying barriers and discussing strategies for expanding utilization of ignition interlocks. The meeting is open to the public to the extent that seating capacity allows.

Brian McLaughlin,
Senior Associate Administrator for Traffic Injury Control, National Highway Traffic Safety Administration.

[FR Doc. E7-13729 Filed 7-13-07; 8:45 am]

BILLING CODE 4910-59-P